DEPARTMENT OF ENERGY

Federal Energy Regulatory Commission

Combined Notice of Filings No 2

February 2, 2010.

Take notice that the Commission has received the following Natural Gas Pipeline Rate and Refund Report filings:

Docket Numbers: RP91-143-060.

Applicants: Great Lakes Gas Transmission LP.

Description: Great Lakes Gas Transmission's Revenue Sharing Report from November 2008 to October 2009.

Filed Date: 01/15/2010.

Accession Number: 20100115-5125.

Comment Date: 5 p.m. Eastern Time on Friday, February 5, 2010.

Docket Numbers: RP04-274-021.

Applicants: Kern River Gas Transmission Company.

Description: Kern River Gas Transmission Company submits part of its FERC Gas Tariff, Second Revised Volume 1.

Filed Date: 01/29/2010.

Accession Number: 20100201-0211.

Comment Date: 5 p.m. Eastern Time on Wednesday, February 10, 2010.

Docket Numbers: RP09-427-003.

Applicants: Southern Natural Gas Company.

Description: Southern Natural Gas Company submits Twenty-First Revised Sheet 2 et al. to its FERC Gas Tariff, Seventh Revised Volume 1 to be effective 3/1/10.

Filed Date: 01/29/2010.

Accession Number: 20100201-0210.

Comment Date: 5 p.m. Eastern Time on Wednesday, February 10, 2010.

Docket Numbers: RP09-89-001.

Applicants: CenterPoint Energy Gas Transmission Company.

Description: CenterPoint Energy Gas Transmission Company submits report of activities during the first year of service under Rate Schedule EFT.

Filed Date: 01/29/2010.

Accession Number: 20100129-0213.

Comment Date: 5 p.m. Eastern Time on Wednesday, February 10, 2010.

Docket Numbers: RP09-995-002.

Applicants: Sea Robin Pipeline Company, LLC.

Description: Sea Robin Pipeline Company, LLC submits a motion to place Second Revised Sheet 2 et al., to be effective 3/1/10/.

Filed Date: 01/29/2010.

Accession Number: 20100129-0202.

Comment Date: 5 p.m. Eastern Time on Wednesday, February 10, 2010.

Docket Numbers: RP10-141-001.

Applicants: T.W. Phillips Pipeline Corporation.

Description: TW Phillips Pipeline Corp submits First Revised Sheet No 2 et al. to FERC Gas Tariff, Original Volume No 1, to be effective January 1, 2010.

Filed Date: 01/19/2010.

Accession Number: 20100120-0202.

Comment Date: 5 p.m. Eastern Time on Friday, February 5, 2010.

Docket Numbers: RP10-160-002.

Applicants: Kern River Gas Transmission Company.

Description: Kern River Gas Transmission Company submits Substitute Fourth Revised Sheet No 107 et al. to FERC Gas Tariff, Second Revised Volume No 1, to be effective 12/19/09.

Filed Date: 01/19/2010.

Accession Number: 20100120-0203.

Comment Date: 5 p.m. Eastern Time on Friday, February 5, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern Time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis,
Deputy Secretary.

[FR Doc. 2010-4634 Filed 3-4-10; 8:45 am]

BILLING CODE 6717-01-P